DEPARTMENT OF ENERGY

Federal Energy Regulatory Commission

[Docket No. EL03-222-000]

Maine Public Utilities Commission, et al., Complainants, v. New England Power Pool and ISO New England, Inc., Respondents; Notice of Complaint

August 25, 2003.

Take notice that on August 21, 2003, the Maine Public Utilities Commission, the Maine Public Advocate, the Rhode Island Public Utilities Commission, the Rhode Island Division of Public Utilities and Carriers, the Rhode Island Attorney General, Pinpoint Power, NRG Energy, Inc. and Gen Power, LLC (collectively, Complainants) filed a Complaint Requesting Fast Track Processing against the New England Power Pool and ISO New England, Inc. (NEPOOL/ISO-NE) pursuant to Sections 206 and 306 of the Federal Power Act and Rule 206 of the Commission's Rules (18 CFR 385.206). Complainants request that the Commission reject the methodology currently proposed by NEPOOL/ISO-NE for allocating the costs of transmission upgrades in New England. Complainants request the Commission to adopt instead the Complainants' proposal, which Complainants assert provides an appropriate method for allocating transmission upgrade costs to the load that benefits from the upgrade.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before comment date. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov. or toll free at (866)208-3676, or for TTY, contact (202)502-8659. The answer to the complaint, comments, protests and interventions may be filed electronically via the Internet in lieu of paper; see 18 CFR 385.2001(a)(1)(iii) and the instructions on the Commission's Web site under the “e-Filing” link. The Commission strongly encourages electronic filings.

September 5, 2003.
Linda Mitry,
Acting Secretary.

[FR Doc. 03-22216 Filed 8-29-03; 8:45 am]

BILLING CODE 6717-01-P